OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between February 1, 2010, and February 28, 2010.

These notices are published monthly in the Federal Register at http://www.gpoaccess.gov/fr/. A consolidated listing of all authorities as of June 30 is also published each year. The following Schedules are not codified in the Code of Federal Regulations. These are agency-specific exceptions.

Schedule A

No Schedule A authorities to report during February 2010.

Schedule B

No Schedule B authorities to report during February 2010.

Schedule C

The following Schedule C appointments were approved during February 2010.

Office of Science and Technology Policy

TSGS10003 Executive Assistant to the President for Science and Technology. Effective February 26, 2010.

Department of State

DSGS70103 Staff Assistant to the Special Advisor, International Disability Rights. Effective February 25, 2010.

Department of the Treasury

DYGS00430 Senior Advisor and Counsel to the Under Secretary for Domestic Finance. Effective February 2, 2010.

DYGS00524 Special Assistant to the Secretary. Effective February 25, 2010.

Department of Defense

DDGS17271 Special Assistant to the Principal Deputy Under Secretary of Defense (Comptroller). Effective February 2, 2010.

DDGS17272 Associate Director to the Director for Joint Communications. Effective February 3, 2010.

Department of the Navy

DNGS09152 Attorney Advisor to the General Counsel. Effective February 1, 2010.

Department of Justice

DJGS00550 Counsel to the Assistant Attorney General, Civil Division. Effective February 16, 2010.

DJGS00556 Speechwriter to the Director, Office of Public Affairs. Effective February 25, 2010.

DJGS00557 Senior Counsel to the Assistant Attorney General Civil Division. Effective February 25, 2010.

DJGS00157 Counsel to the Assistant Attorney General. Effective February 26, 2010.

Department of Homeland Security F

DMGS00843 Director of Strategic Communications to the Assistant Secretary for Public Affairs. Effective February 16, 2010.

DMGS00844 Press Secretary to the Assistant Secretary for Public Affairs. Effective February 16, 2010.

DMGS00845 Director of Individual and Community Preparedness to the Deputy Administrator for National Preparedness. Effective February 18, 2010.

Department of the Interior

DIGS01182 Deputy Director to the Director, Congressional and Legislative Affairs. Effective February 16, 2010.

Department of Agriculture

DAGS00735 Staff Assistant to the Assistant Secretary for Congressional Relations. Effective February 4, 2010.

DAGS00119 Senior Advisor for Labor Affairs to the Assistant Secretary for Congressional Relations. Effective February 19, 2010.

DAGS00732 Assistant Chief—West to the Chief of Natural Resources Conservation Service. Effective February 19, 2010.

DAGS00790 Special Assistant to the Administrator. Effective February 22, 2010.

Department of Commerce

DCGS00492 Advance Specialist to the Director of Advance. Effective February 2, 2010.

DCGS00172 Associate Director for Business Development to the National Director, Minority Business Development Agency. Effective February 16, 2010.

DCGS00193 Senior Advisor to the Under Secretary of Commerce for Industry and Security. Effective February 16, 2010.

Department of Labor

DLGS60262 Special Assistant to the Executive Secretary. Effective February 3, 2010.

DLGS60011 Staff Assistant to the Chief Economist. Effective February 17, 2010.

Department of Education

DBGS00584 Deputy White House Liaison to the Chief of Staff. Effective February 4, 2010.

DBGS00335 Confidential Assistant to the Chief of Staff. Effective February 16, 2010.

DBGS00343 Confidential Assistant to the Senior Advisor on Early Learning. Effective February 16, 2010.

DBGS00670 Deputy Director to the Director, White House Initiative on Educational Excellence for Hispanic Americans. Effective February 23, 2010.

Environmental Protection Agency

EPGS08001 Assistant Press Secretary to the Associate Administrator for Public Affairs. Effective February 4, 2010.

EPGS10004 Deputy Assistant Administrator to the Assistant Administrator for Enforcement and Compliance Assurance. Effective February 4, 2010.

Department of Veterans Affairs

DVGS60041 Special Assistant to the Assistant Secretary for Congressional and Legislative Affairs. Effective February 25, 2010.

Securities and Exchange Commission

SEOT60006 Confidential Assistant to the Chairman. Effective February 22, 2010.

SEOT62004 Legislative and Intergovernmental Affairs Specialist to the Chairman. Effective February 22, 2010.

Department of Energy

DEGS00795 Senior Legal Advisor to the General Counsel. Effective February 16, 2010.

DEGS00797 Legal Advisor to the General Counsel. Effective February 16, 2010.

DEGS00799 Economic Recovery Advisor to the Senior Advisor/Director, Office of the American Recovery and Reinvestment Act. Effective February 25, 2010.

Small Business Administration

SBGS00696 Senior Advisor to the Associate Administrator for Government Contracting and Business Development. Effective February 12, 2010.

SBGS00697 Special Assistant to the Chief Operating Officer. Effective February 12, 2010.

SBGS00699 Deputy White House Liaison to the White House Liaison and Deputy Chief of Staff. Effective February 12, 2010.

SBGS00701 Confidential Assistant to the Administrator. Effective February 19, 2010.

SBGS00698 Senior Advisor to the Associate Administrator for Government Contracting and Business Development. Effective February 22, 2010.

General Services Administration

GSGS01424 Regional Administrator to the Administrator. Effective February 23, 2010.

GSGS01422 Regional Administrator to the Administrator. Effective February 25, 2010.

GSGS01428 Regional Administrator to the Administrator. Effective February 25, 2010.

Department of Housing and Urban Development

DUGS60512 Special Assistant to the Chief of Staff. Effective February 17, 2010.

Department of Transportation

DTGS60291 Associate Director for Governmental Affairs. Effective February 4, 2010.

DTGS60279 Director of Speechwriting to the Secretary and Director of Public Affairs. Effective February 25, 2010.

Council on Environmental Quality

EQGS00120 Scheduler to the Chairman (Council on Environmental Quality). Effective February 3, 2010.

Office of Management and Budget

BOGS10010 Confidential Assistant to the Deputy Director, Office of Management and Budget. Effective February 25, 2010.

BOGS10011 Deputy Associate Director (Appropriations) for Legislative Affairs. Effective February 25, 2010.

Authority: 5 U.S.C. 3301 and 3302; E.O. 10577, 3 CFR 1954-1958 Comp., p. 218.

Office of Personnel Management.
John Berry,
Director.

[FR Doc. 2010-6529 Filed 3-23-10; 8:45 am]

BILLING CODE 6325-39-P